INTERNATIONAL TRADE COMMISSION

[Investigation No. 337-TA-1051]

Certain LTE Wireless Communication Devices and Components Thereof; Commission Determination Not To Review an Initial Determination Granting a Joint Motion To Terminate the Investigation Based Upon Settlement; Termination of the Investigation

AGENCY: U.S. International Trade Commission.

ACTION: Notice.

SUMMARY: Notice is hereby given that the U.S. International Trade Commission has determined not to review an initial determination (“ID”) (Order No. 13) of the presiding administrative law judge (“ALJ”) granting a joint motion to terminate the investigation based upon settlement. The investigation is terminated.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1051 on May 1, 2017, based on a complaint filed by Complainants LG Electronics, Inc. of Seoul, Republic of Korea; LG Electronics Alabama, Inc. of Huntsville, Alabama; and LG Electronics MobileComm U.S.A., Inc. of Englewood Cliffs, New Jersey (collectively, “Complainants”). See 82 FR 20377-78 (May 1, 2017). The complaint alleges violations of section 337 of the Tariff Act of 1930, as amended (19 U.S.C. 1337), based upon the importation into the United States, the sale for importation into the United States, and the sale within the United States after importation, of certain LTE wireless communication devices and components thereof by reason of infringement of certain claims of U.S. Patent No. 7,916,714; U.S. Patent No. 8,107,456; U.S. Patent No. 9,191,173; U.S. Patent No. 9,225,572; and U.S. Patent No. 8,891,560. See id. The notice of investigation identified BLU Products, Inc. of Doral, Florida and CT Miami, LLC of Doral, Florida (collectively, “Respondents”) as respondents in this investigation. See id. The Office of Unfair Import Investigations is also a party to this investigation. See id.

On October 4, 2017, Complainants and Respondents (collectively, “the Private Parties”) filed a joint motion to terminate the investigation based upon settlement (“Joint Motion”). On October 10, 2017, the Commission Investigative Attorney filed a response in support of the Joint Motion.

On October 12, 2017, the ALJ issued the subject ID (Order No. 13) granting the Joint Motion. The ID finds that the Private Parties complied with Commission Rule 210.21(b), 19 CFR 210.21(b). See ID at 2. In particular, the ID notes that the Private Parties “provided confidential and public versions of the [Settlement and License] Agreement” and “state[d] [that] `[t]here are no other agreements, written or oral, express or implied between [Complainants] and [Respondents] concerning the subject matter of this investigation.' ” See id. (citing Joint Motion at 2). The ID also considers the public interest under Commission Rule 210.50(b)(2), 19 CFR 210.50(b)(2) and finds “no evidence indicating that terminating this investigation based on the [Settlement and License] Agreement would be contrary to the public interest.” See id.

No party has filed a petition for review of the subject ID.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: October 30, 2017
Lisa R. Barton,
Secretary to the Commission.

[FR Doc. 2017-23916 Filed 11-2-17; 8:45 am]

BILLING CODE 7020-02-P